Proclamation 10263 of September 24, 2021

National Public Lands Day, 2021

By the President of the United States of America

A Proclamation

On National Public Lands Day, we celebrate America's beautiful and majestic public lands—those irreplaceable natural treasures that belong to all of us in equal measure. Our Nation is blessed with an abundance of awe-inspiring public lands, including National Parks, Monuments, conservation areas, wildlife refuges, forests, grasslands, marine sanctuaries, lakes, and reservoirs. For Americans in every part of our Nation, these spaces are invaluable sources of recreation and education, of spiritual fulfillment and rejuvenation, and of inspiration and pride.

Since 1994, National Public Lands Day has brought together hundreds of thousands of volunteers to help restore these essential places; today, it is the largest single-day public lands volunteer event in our Nation. From Shenandoah National Park to Tonto National Forest, volunteers complete service projects like building bridges and trails, restoring native ecosystems, collecting trash, and removing invasive species. These service projects also give volunteers the opportunity to learn more about our public lands and understand the environmental, economic, and health benefits our natural wonders provide. On this day, all federally managed public lands and waters will offer free admission for anyone in America who wishes to explore these shared spaces.

My Administration is committed to conserving our precious public lands and waters. Earlier this year, I signed an Executive Order to create a Civilian Climate Corps, which will put dedicated Americans to work conserving and restoring our public lands and waters for the benefit of all our people. Through our “America the Beautiful” initiative, we are also working with State, local, and Tribal governments as well as private landowners through voluntary conservation efforts to achieve our goal of conserving 30 percent of our Nation's lands and waters by 2030. This decade-long effort will harness the best of the American spirit to protect our biodiversity, improve access to public spaces, and conserve and restore the lands, waters, and wildlife that we all depend on for generations to come.

Our public lands have provided millions of Americans with a much-needed reprieve from the stress and hardships felt during the COVID-19 pandemic. As we continue to get America vaccinated and defeat the pandemic, I invite all Americans to recognize the enormous value—both tangible and intangible—of these unique natural places and to support their local public lands and waters through acts of volunteerism and service. At the same time, we also recognize that not all Americans have equal access to our public lands. My Administration is committed to improving equitable access to nature in every community and to ensuring that every American has the opportunity to enjoy these natural spaces that belong to all of us.

NOW, THEREFORE, I, JOSEPH R. BIDEN JR., President of the United States of America, by virtue of the authority vested in me by the Constitution and the laws of the United States, do hereby proclaim September 25, 2021, as National Public Lands Day. I invite all Americans to join me in a day of service for our public lands.

IN WITNESS WHEREOF, I have hereunto set my hand this twenty-fourth day of September, in the year of our Lord two thousand twenty-one, and of the Independence of the United States of America the two hundred and forty-sixth.

[FR Doc. 2021-21362

Filed 9-28-21; 11:15 am]

Billing code 3295-F1-P